DEPARTMENT OF HOMELAND SECURITY

Bureau of Customs and Border Protection

Automated Commercial Environment (ACE): Applications To Establish Truck Carrier Accounts for Participation in a National Customs Automation Program (NCAP) Test

AGENCY: Customs and Border Protection, DHS.

ACTION: General notice.

SUMMARY: This document announces that the Bureau of Customs and Border Protection (CBP) is accepting applications to establish Truck Carrier Accounts for a National Customs Automation Program (NCAP) test for the Automated Commercial Environment (ACE). Truck carriers who open Truck Carrier Accounts will eventually have the ability to file truck manifest information electronically via the ACE Secure Data Portal and/or via electronic data interchange (EDI) messaging. These Truck Carrier Account-holders will also have access to operational data, receive status messages on ACE Accounts, have access to integrated Account data from multiple system sources, manage and disseminate information in an efficient and secure manner, and obtain release of their cargo, crew, conveyances, and equipment via the ACE Portal or electronic data interchange (EDI) messaging.

This notice sets forth eligibility and application requirements for truck carriers to establish ACE Accounts, and opens the application period for submitting applications.

Any truck carriers interested in participating in testing of electronic truck manifest functionality will be required to have a Truck Carrier Account and, therefore, are encouraged to apply to establish an ACE Account. Further information on participating in testing of the automated electronic truck manifest functionality will be the subject of a subsequent Federal Register notice.

DATES: Applications to establish ACE Truck Carrier Accounts will be accepted starting on February 4, 2004 and will remain open until further notice. Further information on participation in testing of the automated electronic truck manifest functionality will be set forth in a subsequent Federal Register notice.

ADDRESSES: Applications to establish ACE Truck Carrier Accounts should be submitted to Mr. Thomas Fitzpatrick via e-mail at Thomas.Fitzpatrick@dhs.gov.

FOR FURTHER INFORMATION CONTACT: For information regarding the submission of applications to establish ACE truck carrier Accounts: Mr. Thomas Fitzpatrick, via e-mail at Thomas.Fitzpatrick@dhs.gov, or by telephone at (202) 927-0543.

SUPPLEMENTARY INFORMATION:

Background

The Customs and Border Protection Modernization Program has been created to improve efficiency, increase effectiveness, and reduce costs for the Bureau of Customs and Border Protection (CBP) and all of its communities of interest. The ability to meet these objectives depends heavily on successfully modernizing CBP business functions and the information technology that supports those functions.

The initial thrust of the Customs and Border Protection Modernization Program focuses on trade compliance and the development of ACE. Development of ACE will consist of many releases. Each release, while individually achieving critical business needs, also will set forth the foundation for the subsequent releases. This component, part of the third ACE release (see also 67 FR 21800 (May 1, 2002) and 67 FR 41572 (June 18, 2002)), involves establishing ACE Accounts and giving truck carriers who plan to participate in automated electronic truck manifest testing access to the ACE Secure Data Portal (hereinafter, “ACE Portal”).

Truck carriers who establish Truck Carrier Accounts will be the first truck carriers to transmit electronic manifest information in ACE in accordance with section 343 of the Trade Act of 2002 (see 68 FR 68140, December 5, 2003). Initially, account-holders will only have access to static data and basic Account profile information necessary to establish an Account. Eventually, participants will derive the following benefits:

(a) Access to operational data through the ACE Portal;

(b) electronic interaction with CBP;

(c) receipt of status messages concerning their Account;

(d) access to integrated Account data from multiple system sources;

(e) ability to manage and disseminate information in an efficient and secure manner; and

(f) ability to electronically transmit the truck manifest and obtain release of their cargo, crew, conveyances, and equipment via the ACE Portal or electronic data interchange (EDI) messaging.

The authority for testing NCAP programs is set forth in 19 CFR 101.9(b), which enables the Commissioner of CBP to conduct limited test programs or procedures designed to evaluate planned components of the NCAP

Eligibility Criteria for Truck Carriers

To be eligible to become an ACE Account with access to the ACE Portal for subsequent participation in testing of the electronic truck manifest functionality, the truck carrier must simply have the capability of connecting to the Internet.

Account Application Process

The term “application”, as used throughout this notice, is defined as a statement of intent from the truck carrier to establish an ACE Account and participate in the testing of electronic truck manifest functionality. Any truck carrier wishing to establish an ACE Account with access to the ACE Portal must submit an application, via e-mail, to the address specified in the ADDRESSES caption, above. Each truck carrier must include the following information when submitting its application to become an ACE Account:

1. Carrier Name;

2. Standard Carrier Alpha Code(s) (SCAC);

3. Statement certifying capability of connecting to the Internet; and

4. Name, address, and e-mail of point of contact to receive further information.

Any truck carrier providing incomplete information, or otherwise not meeting participation requirements will be notified and given the opportunity to resubmit its application.

Subsequent to receiving a complete application, CBP will contact a carrier for additional information in order to update the Account profile. Truck Carrier Account-holders will be required to acknowledge a continuing obligation to provide CBP with any updates or changes to the information originally submitted. All data submitted and entered into the carrier ACE Portal is subject to the Trade Secrets Act (18 U.S.C. 1905) and is considered confidential.

Upon the issuance of a subsequent notice in the Federal Register that will provide more information on participation in the NCAP test of electronic truck manifest functionality, CBP will deploy an initial group of Truck Carrier Account-holders for participation in the NCAP test.

While CBP will accept applications to establish ACE Truck Carrier Accounts until further notice, qualifying applications for Truck Carrier Accounts not initially approved will be held by CBP pending further expansion of the NCAP test of electronic truck manifest functionality. CBP will notify truck carriers of the status of their application.

Once approved as a Truck Carrier Account-holder, each participant must designate one person as the ACE Portal Account Owner for the information entered into the participant's ACE Portal account. The Account Owner will be responsible for safeguarding the ACE Portal account information, controlling all disclosures of that information to authorized persons, authorizing user access to the ACE Portal account, and ensuring that access by authorized persons to the ACE Portal information is strictly controlled. The participant will also need to identify a point of contact for the testing of communications and software. Truck Carrier Account-holders are further reminded that participation in the automated electronic truck manifest functionality test is not confidential. Lists of approved participants will be made available to the public.

Test Evaluation Criteria

To ensure adequate feedback, participants are required to take part in an evaluation of this test. CBP also invites all interested parties to comment on the design, conduct and implementation of the test at any time. The final results will be published in the Federal Register and the CBP Bulletin as required by § 101.9(b) of the Customs Regulations.

The following evaluation methods and criteria have been suggested:

1. Baseline measurements to be established through data analysis;

2. Questionnaires from both trade participants and CBP addressing such issues as:

• Workload impact (workload shifts/volume, cycle times, etc.);

• Cost savings (staff, interest, reduction in mailing costs, etc.);

• Policy and procedure accommodation;

• Trade compliance impact;

• Problem resolution;

• System efficiency;

• Operational efficiency;

• Other issues identified by the participant group.

Dated: January 30, 2004.
Jayson P. Ahern,
Assistant Commissioner, Office of Field Operations.

[FR Doc. 04-2253 Filed 2-3-04; 8:45 am]

BILLING CODE 4820-02-P